DEPARTMENT OF HEALTH AND HUMAN SERVICES

Administration for Children and Families

Submission for OMB Review; Comment Request

Title: Head Start Family and Child Experiences Survey (FACES).

OMB No.: 0970-0151.

Description: The Office of Planning, Research and Evaluation (OPRE), Administration for Children and Families (ACF), U.S. Department of Health and Human Services (HHS), is proposing to collect data for a new round of the Head Start Family and Child Experiences Survey (FACES). Featuring a new “Core Plus” study design, FACES will provide data on a set of key indicators, including information for performance measures. The design allows for more rapid and frequent data reporting (Core studies) and serves as a vehicle for studying more complex issues and topics in greater detail and with increased efficiency (Plus studies).

The FACES Core study will assess the school readiness skills of Head Start children, survey their parents, and ask their Head Start teachers to rate children's social and emotional skills. In addition, FACES will include observations in Head Start classrooms, and program director, center director, and teacher surveys. FACES Plus studies include additional survey content of policy or programmatic interest, and may include additional programs or respondents beyond those participating in the Core FACES study.

Previous notices provided the opportunity for public comment on the proposed Head Start program recruitment and center selection process (FR V.78, pg. 75569 12/12/2013; FR V.79, pg. 8461 02/12/2014), the child-level data collection in fall 2014 and spring 2015(FR V. 79, pg. 11445 02/28/2014; FR V. 79; pg. 27620 5/14/2014), the program- and classroom-level spring 2015 data collection activities (FR v.79; pg. 73077 12/09/2014), and the American Indian and Alaska Native Head Start Family and Child Experiences Survey (AI/AN FACES) child-level data collection activities in fall 2015 and spring 2016 (FR V. 80, pg. 30250 08/07/2015). This 30-day notice describes the planned additional data collection activities for AI/AN FACES in spring 2016, including surveys with parents, teachers, program directors, and center directors.

AI/AN FACES spring 2016 data collection includes site visits to 37 centers in 22 Head Start programs. As in fall 2015, parents of sampled children will complete surveys on the Web or by telephone (or in person if needed) about their children, activities family members engage in with their children, and family and household background characteristics. Head Start teachers, program directors, and center directors will complete surveys about the Head Start classroom or program and their own background using the Web or paper-and-pencil forms.

The purpose of the Core data collection is to support the 2007 reauthorization of the Head Start program (Pub. L. 110-134), which calls for periodic assessments of Head Start's quality and effectiveness. As additional information collection activities are fully developed, in a manner consistent with the description provided in the 60-day notice (79 FR 11445) and prior to use, we will submit these materials for a 30-day public comment period under the Paperwork Reduction Act.

Respondents: Parents of Head Start children, Head Start teachers and Head Start staff.

Annual Burden Estimates—Current Information Collection Request
Instrument | Total number of respondents | Annual number of respondents | Number of responses per respondent | Average burden hour per response | Estimated annual burden hours
Head Start core parent survey for plus study (AI/AN FACES Spring 2016) | 800 | 267 | 1 | 0.50 | 134
Head Start core teacher survey for plus study (AI/AN FACES) | 80 | 27 | 1 | 0.58 | 16
Head Start program director core survey for plus study (AI/AN FACES) | 22 | 7 | 1 | 0.33 | 2
Head Start center director core survey for plus study (AI/AN FACES) | 37 | 12 | 1 | 0.33 | 4
Total |  |  |  |  | 156

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: OIRA_SUBMISSION@OMB.EOP.GOV, Attn: Desk Officer for the Administration for Children and Families.

Robert Sargis,
ACF Reports Clearance Officer.

[FR Doc. 2015-28815 Filed 11-12-15; 8:45 am]

BILLING CODE 4184-22-P